DEPARTMENT OF THE INTERIOR

National Park Service

[NPS-WASO-NRNHL-DTS#-38799; PPWOCRADI0, PCU00RP14.R50000]

National Register of Historic Places; Notification of Pending Nominations and Related Actions

AGENCY: National Park Service, Interior.

ACTION: Notice.

SUMMARY: The National Park Service is soliciting electronic comments on the significance of properties nominated before September 21, 2024, for listing or related actions in the National Register of Historic Places.

DATES: Comments should be submitted electronically by October 15, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION:

The properties listed in this notice are being considered for listing or related actions in the National Register of Historic Places. Nominations for their consideration were received by the National Park Service before September 21, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name(if applicable), Address/Boundary, City, Vicinity, Reference Number.

CONNECTICUT

New London County

Cedar Grove Cemetery, 638 Broad Street, New London, SG100010932

DELAWARE

New Castle County

Compton Park Apartments, 610-650 N. Walnut Street, Wilmington, SG100010936

FLORIDA

St. Johns County

Henry S. O'Brien Estate, 99 Kelley Lane, St. Augustine, SG100010928

IDAHO

Kootenai County

Coeur d'Alene Garden District Historic District, Roughly bounded by N. 11th St., Montana Ave., N. 5th St. and Lakeside Ave., Coeur d'Alene, SG100010923

MARYLAND

Baltimore INDEPENDENT CITY

Paul Laurence Dunbar School Complex (Civil Rights in Baltimore, Maryland, 1831-1976 MPS), 500 North Caroline Street and 540 North Caroline Street, Baltimore, MP100010938

MONTANA

Carbon County

Regis Grocery, 501 Word Ave. South, Red Lodge, SG100010934

NEBRASKA

Cass County

Martin and Catharine Propst Barn, 15006 42nd St., Plattsmouth, SG100010935

NEW JERSEY

Monmouth County

Laird & Company Distillery Historic District, 1 Laird Road, Scobeyville, Colts Neck Township, SG100010927

SOUTH DAKOTA

Bon Homme County

Beseda Hall and Sokol Park, 115 N. Lidice Street, Tabor, SG100010929

TEXAS

Smith County

Mayfair Building, 411 Fair Park Drive, Building B, Tyler, SG100010937

VIRGINIA

Essex County

DAW Theatre, 152 Prince Street, Tappahannock, SG100010926

WASHINGTON

Pierce County

Asberry, Nettie J. and Henry J., House, 1219 South 13th Street, Tacoma, SG100010930

Thurston County

Radio Station KGY, 1700 Marine Drive NE, Olympia, SG100010925

WISCONSIN

Milwaukee County

Milwaukee Jewish Home for the Aged, 2436 North 50th Street, Milwaukee, SG100010931

Authority: Section 60.13 of 36 CFR part 60.

Sherry A. Frear,
Chief, National Register of Historic Places/National Historic Landmarks Program.

[FR Doc. 2024-22304 Filed 9-27-24; 8:45 am]

BILLING CODE 4312-52-P